DEPARTMENT OF COMMERCE

International Trade Administration

A-570-890

Wooden Bedroom Furniture From the People's Republic of China: Amended Notice of Partial Rescission of Antidumping Duty Administrative Review

AGENCY: Import Administration, International Trade Administration, Department of Commerce.

SUMMARY: On March 7, 2008, the Department of Commerce (“the Department”) initiated the third administrative review of the antidumping duty order on wooden bedroom furniture from the People's Republic of China (“PRC”) covering the period January 1, 2007, through December 31, 2007. See Notice of Initiation of Administrative Review of the Antidumping Duty Order on Wooden Bedroom Furniture from the People's Republic of China, 73 FR 12387 (March 7, 2008) (“Initiation Notice”). Between March 7 and June 5, 2008, several parties withdrew their requests for review. As a result, the Department rescinded the administrative review of wooden bedroom furniture with respect to the entities for whom all review requests have been withdrawn. See Wooden Bedroom Furniture from the People's Republic of China: Notice of Partial Rescission of Antidumping Duty Administrative Review, 73 FR 49990 (August 25, 2008) (“Rescission Notice”). However, in the Rescission Notice, the Department inadvertently failed to identify Nantong Dongfang Oriental Furniture Co., Ltd. (“Nantong Dongfang”) as a company for which the review was being rescinded, and instead listed it as a company receiving the PRC-wide rate, even though it has established a separate rate. See Rescission Notice, 73 FR at 49993; Notice of Amended Final Determination of Sales at Less Than Fair Value and Antidumping Duty Order: Wooden Bedroom Furniture from the People's Republic of China, 70 FR 329, 331 (January 4, 2005) (“WBF Order”). Therefore, we are correcting this error and rescinding the review with respect to Nantong Dongfang.

EFFECTIVE DATE: April 13, 2009.

FOR FURTHER INFORMATION CONTACT: Paul Stolz, AD/CVD Operations, Office 8, Import Administration, International Trade Administration, U.S. Department of Commerce, 14th Street and Constitution Avenue, NW, Washington, DC 20230; telephone: (202) 482-4474.

SUPPLEMENTARY INFORMATION:

Partial Rescission of Review

The Department partially rescinded the review pursuant to 19 CFR 351.213(d)(1) with respect to a number of companies because all requests for review covering those companies were withdrawn within 90 days of the date of publication of the notice of initiation. See Rescission Notice, 73 FR at 49991. However, instead of rescinding the review with respect to Nangtong Dongfang, the Department inadvertently listed Nantong Dongfang as part of the PRC-entity, subject to the PRC-wide rate. See Rescission Notice, 73 FR at 49993. Because Nantong Dongfang has a separate rate (see WBF Order, 70 FR at 331), we are correcting the Rescission Notice to rescind the review with respect to Nantong Dongfang.

Assessment

The Department will instruct U.S. Customs and Border Protection (“CBP”) to assess antidumping duties on all appropriate entries for the above-named entity. For Nantong Dongfang, antidumping duties shall be assessed at rates equal to the cash deposit of estimated antidumping duties required at the time of entry, or withdrawal from warehouse, for consumption, in accordance with 19 CFR 351.212(c)(1)(i). The Department will issue appropriate assessment instructions directly to CBP 15 days after the publication of this notice in the Federal Register.

Notification to Importers

This notice serves as a final reminder to importers of their responsibility under 19 CFR 351.402(f) to file a certificate regarding the reimbursement of antidumping duties prior to liquidation of the relevant entries during this review period. Failure to comply with this requirement could result in the Secretary's assumption that reimbursement of antidumping duties occurred and subsequent assessment of double antidumping duties.

Notification Regarding Administrative Protective Orders (“APOs”)

This notice also serves as a reminder to parties subject to APOs of their responsibility concerning the return or destruction of proprietary information disclosed under an APO in accordance with 19 CFR 351.305, which continues to govern business proprietary information in this segment of the proceeding. Timely written notification of the return/destruction of APO materials or conversion to judicial protective order is hereby requested. Failure to comply with the regulations and terms of an APO is a violation which is subject to sanction.

This notice is in accordance with section 777(i)(1) of the Tariff Act of 1930, as amended, and 19 CFR 351.213(d)(4).

Dated: March 27, 2009.
John M. Andersen,
Acting Deputy Assistant Secretary for Antidumping and Countervailing Duty Operations.

[FR Doc. E9-8382 Filed 4-10-09; 8:45 am]

BILLING CODE 3510-DS-S